DEPARTMENT OF HEALTH AND HUMAN SERVICES

Centers for Disease Control and Prevention

Disease, Disability, and Injury Prevention and Control Special Emphasis Panel: Research on the Impact of Law on Public Health, Program Announcement #03049 Correction

ACTION: Notice; correction.

Name: Disease, Disability, and Injury Prevention and Control Special Emphasis Panel (SEP): Research on the Impact of Law on Public Health, Program Announcement #03049.

Times and Dates: 3 p.m.-3:30 p.m., May 27, 2003 (open). 3:30 p.m.-7 p.m., May 27, 2003 (closed). 8 a.m.-5 p.m., May 28, 2003 (closed).

Place: Marriott Perimeter Center, 246 Perimeter Center Parkway, NE., Atlanta, GA 30346, Telephone 770.270.0422.

Correction

In the Federal Register of May 8, 2003, volume 68, number 89, notice, page 24746 “Date and Time” should read: May 27, 2003, through May 28, 2003.

Contact Person for More Information: Joan Karr, Ph.D., Scientific Review Administrator, Public Health Program Practice Office, CDC, 4770 Buford Highway, NE., MS-K-38, Atlanta, GA 30341, Telephone 770.488.2597.

The Director, Management Analysis and Services Office has been delegated the authority to sign Federal Register notices pertaining to announcements of meetings and other committee management activities, for both the Centers for Disease Control and Prevention and the Agency for Toxic Substances and Disease Registry.

Dated: May 14, 2003.
Alvin Hall,
Director, Management Analysis and Services Office, Centers for Disease Control and Prevention (CDC).

[FR Doc. 03-12707 Filed 5-21-03; 8:45 am]

BILLING CODE 4163-18-P